ENVIRONMENTAL PROTECTION AGENCY

[FRL-6875-9]

Agency Information Collection Activities: Submission for OMB Review; Comment Request; NSPS, Storage Vessels for Petroleum Liquids for Which Construction, Reconstruction, or Modification Commenced after June 11, 1973, and Prior to May 19, 1978

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: NSPS Subpart K, Storage Vessels for Petroleum Liquids for Which Construction, Reconstruction, or Modification Commenced after June 11, 1973, and Prior to May 19, 1978; OMB Control No. 2060-0442; Expiration November 30, 2000. The ICR describes the nature of the information collection and its expected burden and cost; where appropriate, it includes the actual data collection instrument.

DATES: Comments must be submitted on or before October 25, 2000.

ADDRESSES: Send comments, referencing EPA ICR No. 1797.02 and OMB Control No. 2060-0442, to the following addresses: Sandy Farmer, U.S. Environmental Protection Agency, Collection Strategies Division (Mail Code 2822), 1200 Pennsylvania Avenue, NW., Washington, DC 20460; and to Office of Information and Regulatory Affairs, Office of Management and Budget (OMB), Attention: Desk Officer for EPA, 725 17th Street, NW., Washington, DC 20503.

FOR FURTHER INFORMATION CONTACT: For a copy of the ICR contact Sandy Farmer at EPA by phone at (202) 260-2740, by email at farmer.sandy@epamail.epa.gov, or download off the Internet at http://www.epa.gov/icr and refer to EPA ICR No. 1797.02. For technical questions about the ICR, contact: Everett Bishop at: (202) 564-7032; fax: (202) 564-0050; e-mail: bishop.everett@epa.gov.

SUPPLEMENTARY INFORMATION:

Title: NSPS Subpart K, Storage Vessels for Petroleum Liquids for Which Construction, Reconstruction, or Modification Commenced after June 11, 1973, and Prior to May 19, 1978, OMB Control No. 2060-0442, EPA ICR No. 1797.02, expiring November 30, 2000. This is a request for extension of a currently approved collection.

Abstract: The New Source Performance Standards (NSPS) for Storage Vessels for Petroleum Liquids, subpart K was proposed on June 11, 1973 and promulgated on March 8, 1974 (39 FR 9308). These performance standards apply to storage vessels of petroleum liquids for which construction, reconstruction, or modification commenced after June 11, 1973, and prior to May 19, 1978. Facilities subject to this subpart are not exceeding 246,052 liters (65,000 gallons), and commences construction or modification after March 8, 1974, and prior to May 19, 1978; and storage vessel that has a capacity greater than 246,052 liters (65,000 gallons), and commences construction or modification after June 11, 1973, and prior to May 19, 1978. There are approximately 220 respondents, reporting on approximately 5,500 petroleum storage vessels that are subject to this standard.

The Subpart K standards require the owner/operator to document the activities of, the storage period, the maximum true vapor pressure, and the type of petroleum liquid stored. This information is recorded only when a petroleum liquid is changed in the storage vessel. Under the standard, the data collected by the affected industry must be retained at the facility for a minimum of two years, and made available to the Administrator either on request or by inspection.

The information generated by the recordkeeping and reporting requirements described above will be used by the Agency to ensure that facilities affected by the NSPS continue to operate in compliance with the NSPS. Notification of construction, reconstruction and startup will indicate to enforcement personnel when a new affected facility has been constructed and, therefore, is subject to the current NSPS subpart Kb standards. The information collected from the recordkeeping and reporting requirements is also used for targeting inspections, and is of sufficient quality to be used as evidence in court. Information is required to be collected and maintained as follows: records are required to be retained for 2 years, section 60.2; owner/operator shall maintain a record of the petroleum liquid stored, the period of storage and the maximum true vapor pressure of that liquid during the respective storage period, section 60.113; filing a report for construction/reconstruction, section 60.7(a)(1) and filing a report on a physical or operational change, section 60.7(a)(4).

An agency may not conduct or sponsor, and a person is not required to respond to, a collection of information unless it displays a currently valid OMB control number. The OMB control numbers for EPA's regulations are listed in 40 CFR part 9 and 48 CFR Chapter 15. The Federal Register document required under 5 CFR 1320.8(d), soliciting comments on this collection of information was published on April 18, 2000, ( 65 FR 20813). No comments were received.

Burden Statement: The annual public reporting and recordkeeping burden for this collection of information is estimated to average 170 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Owners/Operators of Storage Vessels for Petroleum Liquids.

Estimated Number of Respondents: 220.

Frequency of Response: Occasionally.

Estimated Total Annual Hour Burden: 678 hours.

Estimated Total Annualized Capital and O&M Cost Burden: $ 0.

Send comments on the Agency's need for this information, the accuracy of the provided burden estimates, and any suggested methods for minimizing respondent burden, including through the use of automated collection techniques to the following addresses. Please refer to EPA ICR No. 1797.02 and OMB Control No. 2060-0442 in any correspondence.

Dated: September 18, 2000.
Oscar Morales,
Director, Collection Strategies Division.

[FR Doc. 00-24572 Filed 9-22-00; 8:45 am]

BILLING CODE 6560-50-P